DEPARTMENT OF COMMERCE

International Trade Administration

[A-533-901]

Organic Soybean Meal From India: Preliminary Results and Rescission, in Part, of Antidumping Duty Administrative Review; 2023-2024

AGENCY: Enforcement and Compliance, International Trade Administration, Department of Commerce.

SUMMARY: The U.S. Department of Commerce (Commerce) preliminarily determines that Tejawat Organic Foods (Tejawat) made sales of subject merchandise at less than normal value during the period of review (POR), May 1, 2023, through April 30, 2024. Additionally, Commerce is rescinding this administrative review with respect to 114 companies under review. Interested parties are invited to comment on these preliminary results of review.

DATES: Applicable July 11, 2025.

FOR FURTHER INFORMATION CONTACT: Dan Alexander, AD/CVD Operations, Office VII, Enforcement and Compliance, International Trade Administration, U.S. Department of Commerce, 1401 Constitution Avenue NW, Washington, DC 20230; telephone: (202) 482-4313.

SUPPLEMENTARY INFORMATION:

Background

On May 16, 2022, Commerce published the antidumping duty (AD) order on organic soybean meal from India.¹ Between May 28 and May 31, 2024, Commerce received requests for an administrative review from Perdue Agribusiness LLC (Perdue), a domestic interested party, and the Organic Soybean Processors of America and its individual members, American Natural Processors, LLC; Professional Proteins, Ltd.; Simmons Grain Company; Sheppard Grain Enterprises LLC; Super Soy, LLC; and Tri-State Crush LLC (collectively, the petitioners).² Based on these timely requests for review, and in accordance with 19 CFR 351.221(c)(1)(i), Commerce initiated this administrative review of the Order.³

¹ See Organic Soybean Meal from India: Antidumping Duty Order, 87 FR 29737 (May 16, 2022) (Order).

² See Perdue's Letter, “Organic Soybean Meal from India,” dated May 28, 2024, see also Petitioners' Letter, “Request for Second Administrative Review,” dated May 31, 2024.

³ See Initiation of Antidumping and Countervailing Duty Administrative Reviews, 89 FR 55567 (July 5, 2024).

On July 22, 2024, Commerce tolled certain deadlines in this administrative proceeding by seven days.⁴ On December 9, 2024, Commerce further tolled certain deadlines by an additional 90 days.⁵ On April 28, 2025, Commerce extended the deadline for these preliminary results until no later than July 7, 2025.⁶ For a complete description of the events that followed after the initiation of this review, see the Preliminary Determination Memorandum.⁷

⁴ See Memorandum, “Tolling of Deadlines for Antidumping and Countervailing Duty Proceedings,” dated July 22, 2024.

⁵ See Memorandum, “Tolling of Deadlines for Antidumping and Countervailing Duty Proceedings,” dated December 9, 2024.

⁶ See Memorandum, “Organic Soybean Meal from India: Extension of Deadline for Preliminary Results of Antidumping Duty Administrative Review,” dated April 28, 2025.

⁷ See Memorandum, “Decision Memorandum for the Preliminary Results, and Recission, in Part, of the Administrative Review of the Antidumping Duty Order on Certain Organic Soybean Meal from India; 2023-2024,” dated concurrently with, and hereby adopted by, this notice (Preliminary Decision Memorandum).

Scope of the Order

The product covered by the Order is certified organic soybean meal. For a full description of the scope of the order, see the Preliminary Decision Memorandum.

Partial Rescission of Administrative Review

Pursuant to 19 CFR 351.213(d)(1), Commerce will rescind an administrative review, in whole or in part, if a party that requested the review withdraws the request within 90 days of the date of publication of the notice of initiation in the Federal Register. Interested parties timely withdrew requests for review for all companies except for Tejawat Organic Foods (Tejawat) and Vinod Kumar Ranjeet Singh Bafna (Vinod).⁸ Therefore, in accordance with 19 CFR 351.213(d)(1), Commerce is rescinding this administrative review of the Order with respect to all companies listed in Appendix II.

⁸ See Petitioner's Letter, “Complete Withdrawal of Petitioner's Request for a 2nd Administrative Review,” dated October 3, 2024.

Pursuant to 19 CFR 351.213(d)(3), it is Commerce's practice to rescind an administrative review of an AD order where it determines that there were no suspended entries of subject merchandise during the POR. Thus, normally, upon completion of an administrative review, suspended entries of subject merchandise are liquidated at the AD assessment rate calculated for the review period.⁹ Therefore, for an administrative review to be conducted, there must be a suspended entry that Commerce can instruct U.S. Customs and Border Protection (CBP) to liquidate at the calculated AD assessment rate for the review period.¹⁰ Commerce may rescind an administrative review if it concludes that, during the period covered by the review, there were no entries, exports, or sales of subject merchandise, as the case may be.¹¹

⁹ See 19 CFR 351.212(b)(1).

¹⁰ See, e.g., Shanghai Sunbeauty Trading Co. v. United States, 380 F. Supp. 3d 1328, 1335-36 (CIT 2019) (referring to section 741(a) of the Act, the U.S. Court of International Trade (CIT) held that: “While the statute does not explicitly require that an entry be suspended as a prerequisite for establishing entitlement to a review, it does explicitly state the determined rate will be used as the liquidated rate for the review entries. This result can only obtain if the liquidation of entries has been suspended”); see also Certain Frozen Fish Fillets from the Socialist Republic of Vietnam: Final Results of Antidumping Duty Administrative Review And Final Determination of No Shipments; 2018-2019, 86 FR 36102 (July 8, 2021), and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

¹¹ See, e.g., Dioctyl Terephthalate from the Republic of Korea: Rescission of Antidumping Duty Administrative Review; 2021-2022, 88 FR 24758 (April 24, 2023); see also Certain Carbon and Alloy Steel Cut-to Length Plate from the Federal Republic of Germany: Recission of Antidumping Administrative Review; 2020-2021, 88 FR 4157 (January 24, 2023).

The entry data that Commerce obtained from CBP showed no suspended entries of subject merchandise from Vinod. On October 9, 2024, Commerce notified interested parties of our intent to rescind this administrative review with respect to Vinod.¹² No interested party commented on our intent to rescind this administrative review with respect to Vinod. Therefore, in the absence of any suspended entries of subject merchandise during the POR from Vinod, Commerce is rescinding this administrative review with respect to Vinod, in accordance with 19 CFR 351.213(d)(3) and (4).

¹² See Memorandum, “Notice of Intent to Rescind Review, In Part,” dated October 9, 2024.

Methodology

Commerce is conducting this review in accordance with section 751(a) of the Tariff Act of 1930, as amended (the Act). Because Commerce preliminarily finds that Tejawat failed to cooperate to the best of its ability in responding to our requests for information, Commerce relied on facts available, with adverse inferences (AFA), in determining this company's dumping margin, consistent with section 776 of the Act.

For a full description of the methodology underlying our conclusions, see the Preliminary Decision Memorandum. A list of topics included in the Preliminary Decision Memorandum is included as Appendix I of this notice.

Preliminary Results of Review

Commerce preliminarily determines the following weighted-average dumping margin exists for the period May 1, 2023, through April 30, 2024:

Manufacturer/exporter | Weighted- average dumping margin (percent)
Tejawat Organic Foods | * 18.80
* Rate based on facts available with adverse inferences.

Disclosure

Normally, Commerce discloses to interested parties the calculations performed in connection with preliminary results within five days of any public announcement or, if there is no public announcement, within five days of the date of publication of the notice of preliminary results in the Federal Register, in accordance with 19 CFR 351.224(b). However, because Commerce preliminarily applied AFA to the individually examined company, Tejawat, in accordance with section 776(a) and (b) of the Act, there are no calculations to disclose.¹³

¹³ See the Preliminary Decision Memorandum at the section, “Application of Facts Available and Adverse Inferences,” for a discussion of the AFA rate assigned to Tejawat for these preliminary results.

Public Comment

Case briefs or other written comments may be submitted to the Assistant Secretary for Enforcement and Compliance. Pursuant to 19 CFR 351.309(c)(1)(ii), Commerce has modified the deadline for interested parties to submit case briefs to Commerce no later than 21 days after the date of publication of this notice.¹⁴ Rebuttal briefs, limited to issues raised in the case briefs, may be filed not later than five days after the date for filing case briefs.¹⁵ Interested parties who submit case briefs or rebuttal briefs in this proceeding must submit: (1) a table of contents listing each issue; and (2) a table of authorities.¹⁶

¹⁴ See 19 CFR 351.309(c)(1)(ii); see also 19 CFR 351.303 (for general filing requirements).

¹⁵ See 19 CFR 351.309(d); see also Administrative Protective Order, Service, and Other Procedures in Antidumping and Countervailing Duty Proceedings, 88 FR 67069, 67077 (September 29, 2023) (APO and Service Final Rule).

¹⁶ See 19 351.309(c)(2) and (d)(2).

As provided under 19 CFR 351.309(c)(2) and (d)(2), in prior proceedings Commerce has encouraged interested parties to provide an executive summary of their briefs that should be limited to five pages total, including footnotes. In this review, Commerce instead requests that interested parties provide at the beginning of their briefs a public, executive summary for each issue raised in their briefs.¹⁷ Further, Commerce requests that interested parties limit their executive summary of each issue to no more than 450 words, not including citations. Commerce intends to use the executive summaries as the basis of the comment summaries included in the issues and decision memorandum that will accompany the final results in this administrative review. Commerce requests that interested parties include footnotes for relevant citations in the executive summary of each issue. Note that Commerce has amended certain of its requirements pertaining to the service of documents in 19 CFR 351.303(f).¹⁸

¹⁷ Commerce uses the term “issue” here to describe an argument that Commerce would normally address in a comment of the Issues and Decision Memorandum.

¹⁸ See APO and Service Final Rule.

Pursuant to 19 CFR 351.310(c), interested parties who wish to request a hearing must submit a written request to the Assistant Secretary for Enforcement and Compliance, filed electronically via ACCESS. Requests should contain: (1) the party's name, address, and telephone number; (2) the number of individuals associated with the requesting party that will attend the hearing and whether any of those individuals is a foreign national; and (3) a list of issues the party intends to discuss at the hearing. Issues raised in the hearing will be limited to those raised in the respective case briefs. An electronically filed hearing request must be received successfully in its entirety by Commerce's electronic records system, ACCESS, by 5 p.m. Eastern Time within 30 days after the date of publication of this notice in the Federal Register. If a request for a hearing is made, Commerce will inform parties of the scheduled date for the hearing.¹⁹

¹⁹ See 19 CFR 351.310(d).

Assessment Rates

Upon completion of the administrative review, Commerce shall determine, and U.S. Customs and Border Protection (CBP) shall assess, antidumping duties on all appropriate entries covered by this review.²⁰ Commerce intends to issue assessment instructions to CBP no earlier than 35 days after the date of publication of the final results in the Federal Register.

²⁰ See Antidumping Proceedings: Calculation of the Weighted Average Dumping Margin and Assessment Rate in Certain Antidumping Proceedings: Final Modification, 77 FR 8101 (February 14, 2012) (Final Modification).

If Commerce continues to base Tejawat's weighted-average dumping margin upon total facts available, with adverse inferences, in the final results of this review, then Commerce will instruct CBP to assess antidumping duties at a rate of 18.80 percent to all entries of subject merchandise produced and/or exported by Tejawat.

However if Tejawat's final weighted-average dumping margin is not based on total facts otherwise available, with adverse inferences, Commerce intends to calculate importer/customer specific assessment rates by dividing the total amount of dumping for reviewed sales to the importer/customer by the total quantity of those sales.²¹ Commerce will calculate an estimated ad valorem importer/customer-specific assessment rate to determine whether the per-unit assessment rate is de minimis; however, it will instruct CBP to apply the per-unit assessment rate.²²

²¹ See 19 CFR 351.212(b)(1).

²² See Final Modification, 77 FR at 8103.

For Vinod and the companies listed in Appendix II for which Commerce is rescinding this review, Commerce will instruct CBP to assess antidumping duties on all appropriate entries at a rate equal to the cash deposit of estimated antidumping duties required at the time of entry, or withdrawal from warehouse, for consumption, during the POR in accordance with 19 CFR 351.212(c)(l)(i). Commerce intends to issue rescission instructions to CBP no earlier than 35 days after the publication of these preliminary results in the Federal Register.

If a timely summons is filed at the U.S. Court of International Trade, the assessment instructions will direct CBP not to liquidate relevant entries until the time for parties to file a request for a statutory injunction has expired (i.e., within 90 days of publication).

Cash Deposit Requirements

The following deposit requirements will be effective for all shipments of organic soybean meal from India entered, or withdrawn from warehouse, for consumption on or after the date of publication of the final results of this administrative review, as provided for by section 751(a)(2)(C) of the Act: (1) the cash deposit rate for Tejawat will be the rate established for Tejawat in the final results of this review (except, if this rate is zero or de minimis, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) the cash deposit rate for all other manufacturers or exporters will continue to be 3.07 percent, the all-others rate established in underlying the less-than-fair-value investigation.²³ These cash deposit requirements, when imposed, shall remain in effect until further notice.

²³ See Order.

Final Results of Review

Unless the deadline is otherwise extended, Commerce intends to issue the final results of this administrative review, including the results of our analysis of issues raised by the parties in the written comments, within 120 days after the publication of this notice in the Federal Register, pursuant to section 751(a)(3)(A) of the Act and 19 CFR 351.213(h)(1).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act, and 19 CFR 351.221(b)(4) and 19 CFR 351.213(d)(4).

Dated: July 7, 2025.
Christopher Abbot,
Deputy Assistant Secretary for Policy and Negotiations, performing the non-exclusive functions and duties of the Assistant Secretary for Enforcement and Compliance.

Appendix I

List of Topics Discussed in the Preliminary Decision Memorandum

I. Summary

II. Background

III. Scope of the Order

IV. Rescission of Administrative Review, In Part

V. Application of Facts Available and Adverse Inferences

VI. Recommendation

Appendix II

Companies Rescinded From This Administrative Review for Which All Review Requests Were Timely Withdrawn

1. Aashiyana Foodstuffs

2. Abhay Oil Industries

3. Agrawal Oil & Biocheam

4. Alfa Engineering & Enterprise

5. Al Quresh Exp.

6. Al Sameer Exp. Pvt., Ltd.

7. Apac Sourcing Solutions Ltd.

8. Artevet India LLP.

9. Asa Agrotech Pvt., Ltd.

10. Avt Natural Products Ltd.

11. Bawa Fishmeal and Oil Co.

12. Bergwerff Organic (India) Pvt., Ltd.

13. Bio Treasure Overseas

14. BNS Agro Industries Sarl on A C.

15. Chandrashekhar Exp. Pvt., Ltd.

16. Cloves Inc.

17. Delight Likelike Products Private Ltd.

18. Delight Sustainable Products LLP.

19. Eco Gold Nutri & Organics LLP.

20. Ecopure Organics Private Ltd.

21. Ecopure Specialties Ltd.

22. Euroasias Organics Private Ltd.

23. Fair Exp. (India) Pvt., Ltd.

24. Faze Three Ltd. Wec India.

25. Gharda Chemicals Ltd.

26. Grasim Industries Ltd.

27. Himatsingaka Seide Ltd.

28. Hnco Organics Pvt., Ltd.

29. Indauto Filters

30. Indo Gulf Co.

31. Januz Universal

32. Jay Agro Product

33. Jay Shree Agro Products

34. J. Lal Foods International

35. J Lal Foods Private Ltd. J

36. SM Foods

37. Kaj Traders

38. Kalash International

39. Kan Biosys Pvt., Ltd.

40. Kanishka Organics LLP.

41. Kemin Industries South Asia Pvt., Ltd.

42. Keshav Proteins and Organic LLP.

43. Khanal Foods Pvt., Ltd.

44. Kiesrriya Agro Exim Pvt., Ltd.

45. Krishna Corncob Industries

46. Krishna Overseas Inc.

47. K Uttamlal Exp. Pvt., Ltd.

48. LG Balakrishnan Bros.

49. Lupin Limited

50. Mani Loni

51. Medikonda Nutrients

52. Mehtra Pressing

53. Mj Herbal Extracts Pvt., Ltd.

54. Mohit International Pvt., Ltd.

55. Motto Ceramic Pvt., Ltd.

56. Mrl Tyres Ltd.

57. Natural Remedies Pvt., Ltd.

58. Nature Bio Foods Ltd.

59. Navjyot International

60. Nutrivin Agro Pvt., Ltd.

61. Ox Emp. Co.

62. Pachranga Foods.

63. Paprika Oleos (India) Ltd.

64. Patel Retail Private Ltd.

65. Prasad Cotton Industries Pvt., Ltd.

66. Quality Spices and Food Exp. Pvt., Ltd.

67. Radha Krishna Oil Product

68. Rainbow Exim Trade LLP.

69. Raj Foods International

70. Raj Natural Food Pvt., Ltd.

71. Rajat Agro Commodities Pvt., Ltd.

72. Ramdev Food Products Pvt., Ltd.

73. Rayban Organics Pvt., Ltd.

74. Reach 2 Farm LLP.

75. Reindeer Organics LLP.

76. R.M Trading Co.

77. R.S. Lal International

78. Rudra Enterprises

79. Rupen Marketing Pvt., Ltd.

80. Sai Smaran Foods Ltd.

81. Salvi Chemical Industries Ltd.

82. Samruddhi Organic Farm (India) Pvt., Ltd.

83. Sar Transport Systems Pvt., Ltd.

84. Satguru Agro Resources Private Ltd.

85. Satguru Organics Pvt., Ltd.

86. Satyendra Fibc Pvt., Ltd.

87. Seasons International Pvt., Ltd.

88. Sethi International Overseas (India) Limited

89. Shanti Worldwide

90. Shemach Impex

91. Shivam Enterprises

92. Shree Imp. & Exp.

93. Shree Swaminarayan Siddhant Uttejak.

94. Shree Uday Oil and Foods Industries

95. Shreeram Fibres India Pvt., Ltd.

96. Shri Narayani Mfg. Co.

97. Shri Sumati Industries Pvt., Ltd.

98. Soliflex Packaging Pvt., Ltd.

99. Sona Sunehri Exp.

100. S S India Foods Private Ltd.

101. Suminter India Organics Pvt., Ltd.

102. Suprajit Engineering Ltd.

103. Terra Bio Naturals Private Ltd.

104. Thakar Exp.

105. Tulsi Foods.

106. Unique Fragrances

107. Unique Organics Ltd.

108. Vimala Food Products

109. Vippy Industries

110. VS Trans Lojistik LLP.

111. Vvf (India) Ltd.

112. We Organic Nature Pvt. Ltd.

113. Welspun Global Brands Ltd.

[FR Doc. 2025-12957 Filed 7-10-25; 8:45 am]

BILLING CODE 3510-DS-P